DEPARTMENT OF ENERGY

Federal Energy Regulatory Commission

[Docket Nos. RP00-407-004, RP00-619-005, and RP03-118-001]

High Island Offshore System; Notice of Compliance Filing

May 5, 2003.

Take notice that on April 29, 2003, High Island Offshore System (HIOS), tendered for filing as part of its FERC Gas Tariff, Third Revised Volume No. 1, the tariff sheets referenced in Appendix A to its filing, to become effective May 1, 2003.

HIOS states that it is filing the tariff sheets to comply with the Commission's April 14, 2003, Order in the above-referenced dockets, which relates to compliance with the Commission's Order No. 637.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 12, 2003.

Magalie R. Salas,
Secretary.

[FR Doc. 03-11656 Filed 5-9-03; 8:45 am]

BILLING CODE 6717-01-P